DEPARTMENT OF THE TREASURY

Office of Foreign Assets Control

Additional Designation of Entities Pursuant to Executive Order 12978

AGENCY: Office of Foreign Assets Control, Treasury.

ACTION: Notice.

SUMMARY: The Treasury Department's Office of Foreign Assets Control (“OFAC”) is publishing the names of 21 newly-designated individuals and entities whose property and interests in property are blocked pursuant to Executive Order 12978 of October 21, 1995, “Blocking Assets and Prohibiting Transactions with Significant Narcotics Traffickers.”

DATES: The designation by the Director of the Office of Foreign Assets Control of the 21 individuals and entities identified in this notice pursuant to Executive Order 12978 is effective on October 10, 2007.

FOR FURTHER INFORMATION CONTACT: Assistant Director, Compliance Outreach & Implementation, Office of Foreign Assets Control, Department of the Treasury, Washington, DC 20220, tel.: (202) 622-2490.

SUPPLEMENTARY INFORMATION:

Electronic and Facsimile Availability

This document and additional information concerning OFAC are available from OFAC's Web site (http://www.treas.gov/ofac) or via facsimile through a 24-hour fax-on demand service, tel.: (202) 622-0077.

Background

On October 21, 1995, the President, invoking the authority, inter alia, of the International Emergency Economic Powers Act (50 U.S.C. 1701-1706), issued Executive Order 12978 (60 FR 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The persons listed in an Annex to the Order; (2) any foreign person determined by the Secretary of the Treasury, in consultation with the Attorney General and Secretary of State, to play a significant role in international narcotics trafficking centered in Colombia; or (3) to materially assist in, or provide financial or technological support for or goods or services in support of, the narcotics trafficking activities of persons designated in or pursuant to this order; and (4) persons determined by the Secretary of the Treasury, in consultation with the Attorney General and the Secretary of State, to be owned or controlled by, or to act for or on behalf of, persons designated pursuant to this Order.

On October 10, 2007, the Director of the Office of Foreign Assets Control, in consultation with the Attorney General and Secretary of State, as well as the Secretary of Homeland Security, designated 21 entities and individuals whose property and interests in property are blocked pursuant to the Order.

The list of additional designees is as follows:

1. Alzate Jimenez, Diego Uriel, c/o Andinaenvios An en S.A., Quito, Ecuador; c/o Cambios y Capitales S.A., Bogota, Colombia; c/o Financiacion y Empresa S.A., Cali, Colombia; c/o Fundacion Para La Educacion y El Desarrollo Social, Cali, Colombia; c/o Inversiones Corporativas LTDA., Cali, Colombia; c/o Inversiones Sardi Alzate S.C.S., Cali, Colombia; c/o Outsourcing De Operaciones S.A., Bogota, Colombia; c/o Turismo Hansa S.A., San Andres, Colombia; DOB 13 Aug 1959; POB Colombia; Cedula No. 16658014 (Colombia); Passport 16658014 (Colombia) (individual) [SDNT].

2. Alzate Jimenez, Luis Holmes, c/o Andinaenvios An en S.A., Quito, Ecuador; c/o Cambios y Capitales S.A., Bogota, Colombia; c/o Fundacion Para La Educacion y El Desarrollo SOCIAL, Cali, Colombia; c/o Turismo Hansa S.A., San Andres, Colombia; Calle 5E No. 47-57 apto. 302, Cali, Colombia; DOB 04 Jun 1958; POB Colombia; Cedula No. 16597861 (Colombia); Passport AF719920 (Colombia) (individual) [SDNT].

3. Alzate Jimenez, Tulio Hernando, c/o Andinaenvios An en S.A., Quito, Ecuador; c/o Cambios y Capitales S.A., Bogota, Colombia; c/o Constructora e Inmobiliaria Andina S.A., Cali, Colombia; c/o Financiacion y Empresa S.A., Cali, Colombia; c/o Fundacion Para La Educacion y El Desarrollo SOCIAL, Cali, Colombia; c/o Inversiones Corporativas LTDA., Cali, Colombia; c/o T.H. Alzate Y CIA. S.C.S., Cali, Colombia; c/o Turismo Hansa S.A., San Andres, Colombia; DOB 28 Mar 1961; POB Colombia; Cedula No. 16659731 (Colombia); Passport AF770530 (Colombia) (individual) [SDNT].

4. Andinaenvios An en S.A., Avenida 10 de Agosto N37-288 y Villalengua, Quito, Ecuador; RUC # 1791769155001 (Ecuador) [SDNT].

5. Asesoria y Soluciones Grupo Consultor S.A., Calle 15 Norte No. 6N-34 ofc. 404, Cali, Colombia; NIT # 805018000-1 (Colombia) [SDNT].

6. Cambios y Capitales S.A. (a.k.a. C & CAP S.A.), Calle 12N No. 3N-12, Cali, Colombia; Calle 19 No. 6-48 Local 314-315, Pereira, Colombia; Calle 27 No. 26-60 Local 105 D, Tulua, Valle, Colombia; Calle 29 No. 27-56 Local 102, Palmira, Valle, Colombia; Calle 99 No. 11A-41, Bogota, Colombia; Carrera 4 No. 10-62 Local 15, Cartago, Valle, Colombia; Carrera 15 No. 93-60 Local 1-36, Bogota, Colombia; Carrera 43A No. 34-95 Local 268, Medellin, Colombia; Carrera 44 No. 6A-43 piso 2, Cali, Colombia; Centro Comercial New Point, Avenida Providencia No. 1-35 Local 106, San Andres, Colombia; Transversal 71 No. 26-94 Sur Local 4506, Bogota, Colombia; NIT # 805001015-5 (Colombia) [SDNT].

7. Constructora e Inmobiliaria Andina S.A., Calle 16 Norte No. 9N-41, Cali, Colombia; NIT # 800155233-7 (Colombia) [SDNT].

8. Consultoria Integral y Asesoria Empresarial S.A. (f.k.a. ASECOM S.A.; a.k.a. COINEMP S.A.), Calle 15 Norte No. 6N-34 ofc. 404, Cali, Colombia; NIT # 890326149-8 (Colombia) [SDNT].

9. Financiacion y Empresa S.A. (a.k.a. FINEMPRESA S.A.), Calle 16 Norte No. 9N-41, Cali, Colombia; NIT # 800153965-0 (Colombia) [SDNT].

10. Fundacion Para La Educacion y El Desarrollo Social (a.k.a. FUNDASOCIAL), Calle 16 Norte No. 9N-41, Cali, Colombia; NIT # 800142875-9 (Colombia) [SDNT].

11. Inversiones Corporativas LTDA., Calle 16 Norte No. 9N-41, Cali, Colombia; NIT # 800203027-2 (Colombia) [SDNT].

12. Inversiones Epoca S.A., Calle 15 Norte No. 6N-34 ofc. 404, Cali, Colombia; NIT # 805012582-7 (Colombia) [SDNT].

13. Inversiones Sardi Alzate S.C.S., Calle 16 Norte No. 9N-41, Cali, Colombia; NIT # 805009126-0 (Colombia) [SDNT].

14. J.A.J. Barbosa y CIA. S.C.S. (f.k.a. Comercio Global y CIA. S.C.S.), Calle 15 Norte No. 6N-34 ofc. 404, Cali, Colombia; NIT # 800214437-6 (Colombia) [SDNT].

15. Lopera Barbosa, Adriana, c/o Asesoria y Soluciones Grupo Consultor S.A., Cali, Colombia; c/o Consultoria Integral y Asesoria Empresarial S.A., Cali, Colombia; c/o Inversiones Epoca S.A., Cali, Colombia; c/o J.A.J. Barbosa y CIA. S.C.S., Cali, Colombia; Calle 1A No. 60-61 apto. 205B, Cali, Colombia; DOB 21 Jun 1965; POB Cali, Colombia; Cedula No. 31930002 (Colombia); Passport AG820191 (Colombia) (individual) [SDNT].

16. Lopera Barbosa, Jairo Humberto, c/o Asesoria Y Soluciones Grupo Consultor S.A., Cali, Colombia; c/o Consultoria Integral y Asesoria Empresarial S.A., Cali, Colombia; c/o Inversiones Epoca S.A., Cali, Colombia; c/o J.A.J. Barbosa y CIA. S.C.S., Cali, Colombia; Carrera 72 No. 11-46 Blq. 11 apto. 403, Cali, Colombia; DOB 22 Feb 1971; POB Cali, Colombia; Cedula No. 16792756 (Colombia); Passport AJ172334 (Colombia) (individual) [SDNT].

17. Lopera Barbosa, Juan Carlos, c/o Asesoria y Soluciones Grupo Consultor S.A., Cali, Colombia; c/o Consultoria Integral y Asesoria Empresarial S.A., Cali, Colombia; c/o Inversiones Epoca S.A., Cali, Colombia; c/o J.A.J. Barbosa y CIA. S.C.S., Cali, Colombia; Carrera 81 No. 13A-125 Casa 11, Cali, Colombia; DOB 18 Jan 1968; POB Cali, Colombia; Cedula No. 16746731 (Colombia); Passport AK122874 (Colombia) (individual) [SDNT].

18. Outsourcing De Operaciones S.A. (a.k.a. Afiazacredit; a.k.a. Avantecard; a.k.a. Crediavante; f.k.a. Servicios y Remesas S.A.; a.k.a. Turismo Avante), Calle 52A No. 9-86 piso 2 y piso 3, Bogota, Colombia; NIT # 805021157-8 (Colombia) [SDNT].

19. Salazar Lugo, Nelson, c/o Turismo Hansa S.A., San Andres, Colombia; DOB 14 Jul 1955; POB Colombia; Cedula No. 16597419 (Colombia); Passport AH682171 (Colombia) (individual) [SDNT].

20. T.H. Alzate y Cia. S.C.S., Calle 16 Norte No. 9N-41, Cali, Colombia; NIT # 805008972-0 (Colombia) [SDNT].

21. Turismo Hansa S.A., Avenida 4 Norte No. 19N-34 ofc. 302, Cali, Colombia; Centro Comercial New Point Local 204, San Andres, Colombia; NIT # 860027780-4 (Colombia) [SDNT].

Dated: October 10, 2007.
Adam J. Szubin,
Director, Office of Foreign Assets Control.

[FR Doc. E7-20335 Filed 10-15-07; 8:45 am]

BILLING CODE 4811-45-P